DEPARTMENT OF COMMERCE

Foreign-Trade Zones Board

[Order No. 1311]

Expansion of Foreign-Trade Zone 138, Columbus, OH, Area

Pursuant to its authority under the Foreign-Trade Zones Act of June 18, 1934, as amended (19 U.S.C. 81a-81u), the Foreign-Trade Zones Board (the Board) adopts the following Order:

Whereas, the Columbus Regional Airport Authority, grantee of Foreign-Trade Zone 138, submitted an application to the Board for authority to expand and reorganize FTZ 138 by deleting 977 acres from existing Site 1A, expanding Site 1 to include additional parcels (503 acres; Sites 1A, 1D, 1E, 1F and 1G), moving 50 acres from existing Site 1B to proposed Site 1F, and including five additional sites (340 acres; Sites 7-11), adjacent to the Columbus Customs port of entry (FTZ Docket 12-2003; filed 3/5/03);

Whereas, notice inviting public comment was given in the Federal Register (68 FR 11806, 3/12/03) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand and reorganize FTZ 138 is approved, subject to the Act and the Board's regulations, including Section 400.28, subject to the Board's standard 2,000-acre activation limit for the overall zone project, and further subject to a sunset provision that would terminate authority for the proposed sites on December 31, 2008, unless the sites are activated under FTZ procedures.

Signed at Washington, DC this 17th day of 2003.
James J. Jochum,
Assistant Secretary of Commerce, for Import Administration, Alternate Chairman, Foreign-Trade Zones Board.
Attest:
Dennis Puccinelli,
Executive Secretary.

[FR Doc. 03-32294 Filed 12-31-03; 8:45 am]

BILLING CODE 3510-DS-P